DEPARTMENT OF ENERGY

Environmental Management Site-Specific Advisory Board, Chairs Meeting

AGENCY: Department of Energy.

ACTION: Notice of open meeting.

SUMMARY: This notice announces a meeting of the Environmental Management Site-Specific Advisory Board (EM SSAB), Chairs Meeting. The Federal Advisory Committee Act (Pub. L. No. 92-463, 86 Stat. 770) requires that public notice of these meeting be announced in the Federal Register.

DATES: September 26-27, 2003.

ADDRESSES: Courtyard Marriott, 3835 Technology Drive, Paducah, KY 42001.

FOR FURTHER INFORMATION CONTACT: Dianna Feireisel, Deputy Designated Federal Officer, Department of Energy Paducah Site Office, Post Office Box 1410, Paducah, Kentucky 42001, (270) 441-6806.

SUPPLEMENTARY INFORMATION: Purpose of the Board: The purpose of the Board is to make recommendations to DOE and its regulators in the areas of environmental restoration, waste management, and related activities.

Tentative Agenda

Friday, September 26, 2003

8 a.m.—Registration

8:30 a.m.—Opening Business

• Welcoming Remarks

• Introductions

• Meeting Ground Rules and Agenda Review

• Meeting Objectives and Expectations

9 a.m.—Roundtable presentations focusing on each Board's contribution to its specific site (5 minutes per site)

• Direct effect on cleanup projects (improved priorities, accelerated schedules, reduced cost, enhanced community support, etc.)

• Recommendations to DOE and responses

• Overall value

• Roundtable presentations focusing on assessment of semi-annual chairs meetings (5 minutes per site)

• Perceived purpose

• Value to specific sites

• Value to overall complex

10:30 a.m.—Break

10:45 a.m.—Chairs Summary of self-assessment at both local level and national level

• How the work of the CABs, at their individual sites and meeting collectively, have contributed to the mission

• Appropriate criteria for measuring the extent of board effectiveness

11:45 a.m.—Lunch

1 p.m.—DOE Presentations and Discussion

• FY 04 Budget

• Guidance for Site Development of End-State Vision documents

• EM Corporate Strategy

• Response to Recommendations (disposition planning and TRU Waste Workshop)

3 p.m.—Break

3:15 p.m.—Public Comment Period

4 p.m.—Day 1 Wrap-Up and Review of Day 2

4:15 p.m.—Meeting Adjourns

Saturday, September 27, 2003

8:30 a.m.—Review Agenda

8:35 a.m.—Assessment of Workshop (value/contributions)

• Presentation from each host site (5 minutes each)

• Individual site perspectives (5 minutes per site)

Key Questions:

• Intended purpose of workshops

• Who are they aimed at?

• What is their actual value and for whom?

• What has changed, improved because of any workshop?

• If workshops have value, are SSABs the appropriate sponsor?

10 a.m.—Break

10:15 a.m.—Continuation of Discussion

11 a.m.—Next steps for workshops and Chairs meeting

11:30 a.m.—Public Comment Period

11:45 a.m.—Meeting Wrap-Up

• Review of Expectations/Objectives

• Meeting Evaluation

12 noon—Meeting Adjourns

Public Participation: The meeting is open to the public. Written statements may be filed with the Committee either before or after the meeting. Individuals who wish to make oral statements pertaining to agenda items should contact David Dollins at the address or telephone number listed below. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting.

Minutes: Minutes of this meeting will be available for public review and copying at the Freedom of Information Public Reading Room, 1E-190, Forrestal Building, 1000 Independence Avenue, SW., Washington, DC 20585 between 9 a.m. and 4 p.m., Monday—Friday except Federal holidays. Minutes will also be available by writing or calling David Dollins, Department of Energy Paducah Site Office, Post Office Box 1410, MS-103, Paducah, Kentucky 42001 or phone (270) 441-6819.

Issued at Washington, DC, on September 3, 2003.
Rachel M. Samuel,
Deputy Advisory Committee Management Officer.

[FR Doc. 03-22903 Filed 9-8-03; 8:45 am]

BILLING CODE 6450-01-P